DEPARTMENT OF THE INTERIOR

National Park Service

[NPS-WASO-NAGPRA-NPS0038696; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), Turtle Bay Exploration Park (TBEP) intends to repatriate certain cultural items that meet the definition of a sacred objects and that has a known lineal descendant.

DATES: Repatriation of the cultural items in this notice may occur on or after October 15, 2024.

ADDRESSES: Julia Cronin, Turtle Bay Exploration Park, 844 Sundial Bridge Drive, Redding, CA 96001, telephone (530) 242-3191, email jcronin@turtlebay.org.

SUPPLEMENTARY INFORMATION: This notice is published as part of the National Park Service's administrative responsibilities under NAGPRA. The determinations in this notice are the sole responsibility of TBEP and additional information on the determinations in this notice, including the results of consultation, can be found in the summary or related records. The National Park Service is not responsible for the determinations in this notice.

Abstract of Information Available

A total of one cultural item has been requested for repatriation. The one sacred object is a Pomo bead drill. The drill was made by Kenneth Fred around 1978. The Redding Museum and Art Center, the predecessor of TBEP, purchased the item from the Fall 1978 Pacific West Traders catalog with funds from the Redding Museum of Art and History League, a fundraising body for the museum. Pacific West Traders was located in Folsom, CA and owned/operated by Herb Puffer. There is no record of treatment with potentially hazardous materials by TBEP or prior to acquisition.

Determinations

Turtle Bay Exploration Park has determined that:

• The one sacred object described in this notice is a specific ceremonial object needed by a traditional Native American religious leader for present-day adherents to practice traditional Native American religion, according to the Native American traditional knowledge of a lineal descendant, Indian Tribe, or Native Hawaiian organization.

• Vincent Fred is connected to the cultural item described in this notice.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 15, 2024. If competing requests for repatriation are received, Turtle Bay Exploration Park must determine the most appropriate requestor prior to repatriation. Requests for joint repatriation of the cultural item are considered a single request and not competing requests. Turtle Bay Exploration Park is responsible for sending a copy of this notice to the Indian Tribes and Native Hawaiian organizations identified in this notice and to any other consulting parties.

Authority: Native American Graves Protection and Repatriation Act, 25 U.S.C. 3004 and the implementing regulations, 43 CFR 10.9.

Dated: September 5, 2024.
Melanie O'Brien,
Manager, National NAGPRA Program.

[FR Doc. 2024-20876 Filed 9-12-24; 8:45 am]

BILLING CODE 4312-52-P